RAILROAD RETIREMENT BOARD

Actuarial Advisory Committee With Respect to the Railroad Retirement Account; Notice of Public Meeting

The meeting of the Actuarial Advisory Committee which was to be held on August 23, 2002, at 10 a.m. at the office of the Chief Actuary of the U.S. Railroad Retirement Board, 844 North Rush Street, Chicago, Illinois, has been canceled.

The person to contact for more information is Isaiah Forrest, Senior Actuary, at (312) 751-4739.

Dated: August 22, 2002.
Beatrice Ezerski,
Secretary to the Board.

[FR Doc. 02-21875 Filed 8-27-02; 8:45 am]

BILLING CODE 7905-01-M